DEPARTMENT OF HEALTH AND HUMAN SERVICES

Centers for Disease Control and Prevention

[60Day-20-20QD; Docket No. CDC-2020-0076]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Reducing Fatigue Among Taxi Drivers” with the goal of evaluating two interventions, a training and a wrist-device that provides personalized daily fatigue scores, designed to enable taxi drivers to reduce their fatigue levels. This research study involves two parts: Development of a fatigue management eLearning training tool designed for drivers-for-hire (e.g., taxi drivers; ride sourcing drivers); and an evaluation of the effectiveness of this training alone and paired with the wrist-device that provides personalized daily fatigue scores.

DATES: CDC must receive written comments on or before September 18, 2020.

ADDRESSES: You may submit comments, identified by Docket No. CDC-2020-0076 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Reducing Fatigue Among Taxi Drivers—New—National Institute for Occupational Safety and Health (NIOSH), Centers for Disease Control and Prevention (CDC).

Background and Brief Description

Taxi drivers routinely work long hours and late night or early morning shifts. Shift work and long work hours are linked to many health and safety risks due to disturbances to sleep and circadian rhythms. Fatigue is a significant contributor to transportation-related injuries, most notably among shift workers. Such work schedules and inadequate sleep likely contribute to health issues and injuries among taxi drivers who experience a roadway fatality rate of 3.5 times higher than all civilian workers and had the highest rate of nonfatal work-related motor vehicle injuries treated in emergency departments.

The urban and interurban transportation industry ranks the third highest in costs per employee for motor vehicle crashes. Tired drivers endanger others on the road (e.g., other drivers, passengers, bicyclists, pedestrians) in addition to themselves and their passengers. An important approach to reducing fatigue-related risks is to inform employers and taxi drivers about the risks and strategies to reduce their risks.

The purpose of this project is to develop and evaluate a training program to inform taxi drivers and other drivers for hire who transport passengers of the risks linked to shift work and long work hours and evaluate strategies for taxi drivers to reduce these risks. The proposed study site will be the Flywheel Taxi Company in San Francisco, CA with approximately 500 drivers, who have agreed to share data collected on the study participants. The recruitment of 180 study participants and data collection onsite will be performed by a NIOSH contractor trained by the NIOSH project personnel. This research study involves two parts: Development of a fatigue management eLearning training tool designed for drivers-for-hire (e.g., taxi drivers; ride sourcing drivers); and an evaluation of the use of this tool as an intervention. The training tool will educate drivers about fatigue as a risk factor for motor vehicle crashes, the negative health and safety effects of fatigue, and how to reduce fatigue by improving sleep, health, nutrition and work schedules. There will be pre- and post-module knowledge tests to evaluate the training. The training will be offered online, free of charge, and will be viewable on multiple platforms (e.g., smartphone, tablet, laptop). All participants will also wear a wristband actigraph used to measure sleep/wake cycles, which will serve as a second intervention. The actigraph data will provide a personalized daily measure of fatigue each participant can use as an external prompt to assess individual fatigue levels and trigger self-reflection on fitness to drive and act accordingly. A randomized pre-post with control group longitudinal study design will evaluate the training and the driver's response to feedback from the actigraph. Specifically, there are two intervention groups: (1) Training plus actigraph fatigue level feedback and (2) training only with wearing actigraph but no fatigue level feedback. The control group will receive neither training nor feedback on fatigue levels from their actigraph. Participants will complete a baseline and follow-up Work and Health survey, sleep and activities diaries, and sleep health knowledge questions during each of five observation periods. The Work and Health survey administered in the first observation period will be more comprehensive and the abbreviated follow up Work and Health surveys administered for the remaining observation periods will serve to capture only responses to questions that can change from one observation period to the next. Only participants randomly selected to take the training will complete a training evaluation survey used to strengthen the training's effectiveness. Data will also be collected from company installed in-vehicle monitoring systems on safety critical events (e.g., hard braking, speeding) already collected on all drivers as a direct measurement of fatigue-related driving performance events used to validate self-report data. As part of their daily sleep and health diaries drivers will be asked to complete three minute psychomotor vigilance tests (PVTs) five times throughout the day to directly measure alertness using an app installed on an electronic device. At the end of the data collection period the training will be offered to the remaining study participants who will be provided an opportunity, but no remuneration, to complete the training and training survey.

Study staff will use the findings from this evaluation to improve the training program, including content and delivery, as well as compare fatigue between intervention groups. Potential impacts of this project include improvements in work behaviors for coping with shift work and long work hours and an objective reduction in fatigue compared to the control groups. This project is poised to have considerable impact in the contribution of an evidence base for effective interventions that could be used by other taxi companies and drivers for ride sourcing companies to promote strategies in road safety.

The burden table lists 120 of the 180 taxi drivers in the study will complete the online training and evaluation (approximately three hours). All drivers (180) will complete the Work and Health survey, and the knowledge survey each week of the study (five times each per participant). Each participant will complete the sleep and activity diary five times a day, each day for 35 days (175 times total) which will require approximately two minutes for each response. There will also be three meetings for recruitment and enrollment (once), fitting the actigraph (weekly), and a final meeting. The total estimated annualized burden hours is 2,700. There are no costs to participants other than their time.

Estimated Annualized Burden Hours
Type of respondents | Form name | Number of respondents | Number of responses per respondent | Average burden per response (in hours) | Total burden (in hours)
Taxi Drivers | Online Training & Evaluation | 120 | 1 | 3 | 360
| Sleep & Activities Diary | 180 | 175 | 2/60 | 1,050
| Work & Health Survey | 180 | 5 | 45/60 | 675
| Knowledge survey | 180 | 5 | 15/60 | 225
| Recruitment & Informed Consent | 180 | 1 | 30/60 | 90
| Initial Meeting (Fit Actigraph) | 180 | 5 | 10/60 | 150
| 10-minute meeting (turn in devices, turn in diary, receive remuneration) | 180 | 5 | 10/60 | 150
Total |  |  |  |  | 2,700

Jeffrey M. Zirger,
Lead, Information Collection Review Office, Office of Scientific Integrity, Office of Science, Centers for Disease Control and Prevention.

[FR Doc. 2020-15656 Filed 7-17-20; 8:45 am]

BILLING CODE 4163-18-P